DEPARTMENT OF AGRICULTURE

Farm Service Agency

[Docket ID FSA-2025-0002]

Notice of Funds Availability (NOFA); Emergency Commodity Assistance Program (ECAP)

AGENCY: Farm Service Agency, U.S. Department of Agriculture (USDA).

ACTION: Notification of funds availability.

SUMMARY: The Farm Service Agency (FSA) is issuing this notice announcing the funding for ECAP, which will provide economic assistance payments to eligible producers of eligible commodities for the 2024 crop year. ECAP is a new FSA program authorized by the American Relief Act, 2025. This notice also announces the eligibility (commodities, acres, producers, and losses), payment calculations, payment limitations, and how to apply (pre-filled application and any required adjustments) for ECAP.

DATES: Applications Due Date: We will accept applications from March 19, 2025, through August 15, 2025.

FOR FURTHER INFORMATION CONTACT: Kathy Sayers; telephone: (202) 720-6870; email: Kathy.Sayers@usda.gov. Individuals with disabilities who require alternative means for communication should contact the USDA Target Center at (202) 720-2600 (voice and text telephone (TTY mode)) or dial 711 for Telecommunications Relay Service (both voice and text telephone users can initiate this call from any telephone).

SUPPLEMENTARY INFORMATION:

Background

This document announces the funding for ECAP, which is a new program authorized by section 2102 of Title I of Division B of the American Relief Act, 2025 (Pub. L. 118-158) and administered by FSA. ECAP will use up to $10 billion to issue 1-time economic assistance payments to eligible producers of eligible commodities for the 2024 crop year. These payments are intended to help farmers cope with losses from natural disasters and a difficult farm economy, and will help preserve family farms and ranches across the country while also continuing to ensure food and agricultural security for our nation.¹

¹ Tom Cole Floor Remarks on H.R. 10545, the American Relief Act, 2025; available at https://appropriations.house.gov/news/remarks/cole-floor-remarks-hr-10545-american-relief-act-2025.

Definitions

The following definitions apply to this notice:

Application means the ECAP application form.

ARC means Agriculture Risk Coverage codified at 7 U.S.C. 9017.

Average gross farm income means the average of the person or legal entity's gross income derived from farming, ranching, and silviculture ² operations, for the base period consisting of the 2020, 2021, and 2022 tax years.

² Both “silviculture” and “forestry” have been used in statutes, regulations, and NOFAs related to payment limitation for FSA and Commodity Credit Corporation (CCC) programs. FSA considers the terms to have the same meaning for the purpose of administering payment limitations.

If the resulting average gross farm income derived from items 1 through 13 of the definition of income derived from farming, ranching, and silviculture operations is at least 66.66 percent of the average gross income of the person or legal entity, then the average gross farm income may also take into consideration income or benefits derived from the following:

(1) The sale, trade, or other disposition of equipment to conduct farm, ranch, or forestry operations; and

(2) The provision of production inputs and production services to farmers, ranchers, foresters, and farm operations.

For legal entities not required to file a Federal income tax return, or a person or legal entity that did not have taxable income in 1 or more of the tax years during the base period (2020, 2021, or 2022), the average gross farm income will be the gross farm income, averaged for the 2020, 2021, and 2022 tax years, as determined by FSA. For a legal entity created during the base period, the gross farm income average will include only those years of the base period for which it was in business; however, a new legal entity will not be considered “new” to the extent it takes over an existing operation and has any elements of common ownership interest and land with the preceding person or legal entity from which it took over. When there is such commonality, income of the previous person or legal entity will be averaged with that of the new legal entity for the base period. For a person filing a joint tax return, the certification of average gross farm income may be reported as if the person had filed a separate Federal tax return, and the calculation is consistent with the information supporting the filed joint return.

Average gross income means the average of the gross income as defined under 26 U.S.C. 61 of the person or legal entity, for the 2020, 2021 and 2022 tax years.

Base period means the 2020, 2021, and 2022 tax years.

Cotton means extra-long staple cotton and upland cotton.

Corn means only white, yellow, amylose, popcorn (excluding strawberry popcorn), waxy, and high amylase corn.

Crop year means the calendar year in which a commodity was intended for harvest.

CCC means the Commodity Credit Corporation.

Deputy Administrator means the FSA Deputy Administrator for Farm Programs.

Determined acreage means that acreage established by an FSA representative by use of official acreage, digitizing areas on a photograph or other imagery, or computations from scaled dimensions or ground measurements.

Double cropping means, as determined by the Deputy Administrator on a regional basis, consecutive planting of two specific crops that have the capability to be planted and carried to maturity for the intended uses, as reported by the producer, on the same acreage within a 12-month period. To be considered double cropping, the planting of two specific crops must be in an area where the FSA State Committee has determined that producers are typically able to repeat the same cycle successfully in a subsequent 12-month period under normal growing conditions.

Dry peas means Austrian, green, wrinkled seed, and yellow peas, excluding peas grown for the fresh, canning, or frozen market.

Economic loss means, as specified in section 2102(a)(4)(B) of the American Relief Act, 2025, the difference between the expected cost of production per acre for an eligible commodity and the expected gross return per acre for that eligible commodity.

Eligible commodities means barley, canola, crambe, corn, dry peas, extra-long staple cotton, flax, large chickpeas, mustard, lentils, oats, peanuts, rapeseed, rice, safflower, sesame, small chickpeas, sorghum, soybeans, sunflower, upland cotton, and wheat.

Expected cost of production per acre means, as specified in section 2102(a)(3) of the American Relief Act, 2025:

(1) For wheat, corn, grain sorghum, barley, oats, cotton, rice, and soybeans, the total costs listed for the 2024 crop year with respect to the applicable eligible commodity contained in the most recent data product titled “national average cost-of-production forecasts for major U.S. field crops” published by the Economic Research Service; and

(2) For an eligible commodity not specified in paragraph (1) of this definition, a comparable total estimated cost-of-production, as determined by the Secretary.

Expected gross return per acre means, as specified in section 2102(a)(2) of the American Relief Act, 2025:

(1) For wheat, corn, grain sorghum, barley, oats, cotton, rice, and soybeans, the product obtained by multiplying:

(i) The projected average farm price for the applicable eligible commodity for the 2024-2025 marketing year contained in the most recent World Agricultural Supply and Demand Estimates published before December 21, 2024, by the World Agricultural Outlook Board; and

(ii) The national average harvested yield per acre for the applicable eligible commodity for the most recent crop years, as determined by the Secretary; and

(2) For an eligible commodity not specified in paragraph (1) of this definition, a comparable estimate of gross returns, as determined by the Secretary.

Extra-long staple cotton means cotton that follows the standard planting and harvesting practices of the area in which the cotton is grown, and meets all of the following conditions:

(1) American-Pima, Sea Island, Sealand, all other varieties of the Barbandense species of cotton and any hybrid thereof, and any other variety of cotton in which 1 or more of these varieties is predominant;

(2) The acreage is grown in a county designated as an extra-long staple cotton county by the Secretary; and

(3) The production from the acreage is ginned on a roller-type gin.

Farming operation means a business enterprise engaged in the production of agricultural products, commodities, or livestock, operated by a person, legal entity, or joint operation. A person or legal entity may have more than one farming operation if the person or legal entity is a member of one or more legal entity or joint operation.

Grain sorghum means grain sorghum of a feed grain or dual-purpose variety (including any cross that, at all stages of growth, having characteristics of a feed grain or dual-purpose variety) that follows the standard planting and harvesting practice for grain sorghum for the area in which the grain sorghum was planted. Sweet sorghum is not considered a grain sorghum.

Income derived from farming, ranching, and silviculture operations means income of a person or legal entity derived from:

(1) Production of crops and unfinished raw forestry products;

(2) Production of livestock, aquaculture products used for food, honeybees, and products derived from livestock;

(3) Production of farm-based renewable energy;

(4) Selling (including the sale of easements and development rights) of farm, ranch, and forestry land, water or hunting rights, or environmental benefits;

(5) Rental or lease of land or equipment used for farming, ranching, or forestry operations, including water or hunting rights;

(6) Processing, packing, storing, and transportation of farm, ranch, or forestry commodities including for renewable energy;

(7) Feeding, rearing, or finishing of livestock;

(8) Payments of benefits, including benefits from risk management practices, Federal crop insurance indemnities, and catastrophic risk protection plans;

(9) Sale of land that has been used for agricultural purposes;

(10) Benefits (including, but not limited to, cost-share assistance and other payments) from any Federal program made available and applicable to payment eligibility and payment limitation rules, as provided in 7 CFR part 1400;

(11) Income reported on IRS Schedule F or other schedule, approved by the Deputy Administrator for Farm Programs, used by the person or legal entity to report income from such operations to the IRS;

(12) Wages or dividends received from a closely held corporation, an Interest Charge Domestic International Sales Corporation (also known as IC-DISC), or legal entity comprised entirely of family members when more than 50 percent of the legal entity's gross receipts for each tax year are derived from farming, ranching, and forestry activities as defined in this document; and

(13) Any other activity related to farming, ranching, or forestry, as determined by the Deputy Administrator.

IRS means the Department of the Treasury, Internal Revenue Service.

Legal entity means an entity that is created under Federal or State law and that:

(1) Owns land or an agricultural commodity; or

(2) Produces an agricultural commodity.

Legal entities include corporations, joint stock companies, associations, limited partnerships, limited liability companies, irrevocable trusts, estates, charitable organizations, general partnerships, joint ventures, and other similar organizations created under Federal or State law including any such organization participating in a business structure as a partner in a general partnership, a participant in a joint venture, a grantor of a revocable trust, or as a participant in a similar organization. A business operating as a sole proprietorship is considered a legal entity.

Minor child means a person who is under 18 years of age as of June 1, 2024.

Ownership interest means to have either a legal ownership interest or a beneficial ownership interest in a legal entity. For the purposes of administering ECAP, a person or legal entity that owns a share or stock in a legal entity that is a corporation, limited liability company, limited partnership, or similar type entity where members hold a legal ownership interest and shares in the profits or losses of such entity is considered to have an ownership interest in such legal entity. A person or legal entity that is a beneficiary of a trust or heir of an estate who benefits from the profits or losses of such entity is also considered to have a beneficial ownership interest in such legal entity.

Person means an individual who is a natural person and does not include a legal entity.

Peanuts means all peanuts excluding perennial peanuts.

PLC means Price Loss Coverage codified at 7 U.S.C. 9016.

Producer means an owner, operator, landlord, tenant, or sharecropper that shares in the risk of producing a crop and is entitled to share in the crop available for marketing from the farm, or would have shared had the crop been produced.

Production inputs mean material to conduct farming operations, such as seeds, chemicals, and fencing supplies.

Production services mean services provided to support a farming operation, such as custom farming, custom feeding, and custom fencing.

Rice means long grain rice and medium grain rice, including temperate japonica rice, short grain, and sweet rice.

Secretary means the Secretary of Agriculture.

Skip-row means a cultural practice in which rows of a crop are alternated with strips of idle land or another crop, as determined by the Secretary.

United States means all 50 States of the United States, the District of Columbia, the Commonwealth of Puerto Rico, and any other territory or possession of the United States.

Upland cotton means cotton that is produced in the United States from other than pure strain varieties of the Barbadense species, any hybrid thereof, or any other variety of cotton in which one or more of these varieties predominate. In other words, it means any cotton that is not extra-long staple cotton.

USDA means the U.S. Department of Agriculture.

Eligible Commodities

As provided in the American Relief Act, 2025, eligible commodities for ECAP include loan commodities as defined in section 1201(a) of the Agricultural Act of 2014 (7 U.S.C. 9031(a)), excluding graded wool, nongraded wool, mohair, or honey. Therefore, eligible commodities include wheat, corn, sorghum, barley, oats, upland cotton, extra-long staple cotton, long grain rice, medium grain rice, peanuts, soybeans, other oilseeds, dry peas, lentils, small chickpeas, and large chickpeas. Eligible “other oilseeds” are canola, crambe, flax, mustard, rapeseed, safflower, sesame, and sunflower.

Eligible Acres

As provided in the American Relief Act, 2025, the eligible acres of an eligible commodity on a farm are equal to the sum of:

• the acreage planted on the farm to that eligible commodity for harvest, grazing, haying, silage, or other similar purposes for the 2024 crop year; and

• 50 percent of the acreage on the farm that was prevented from being planted during the 2024 crop year to that eligible commodity because of drought, flood, or other natural disaster, or other condition beyond the control of the producers on the farm, as determined by the Secretary.

Acreage must be located in the United States to be eligible. FSA will calculate payments based on determined acreage, or on reported acres if determined acres are not present. Planted acreage includes any land devoted to planted acres for accepted skip-row planting patterns, as determined by the Secretary.³

³ FSA will calculate ECAP payments for skip-row acreage based on the total acres devoted to the commodity without making reductions that are applicable to other FSA programs, as specified in 7 CFR 718.108.

In situations where a producer planted, or was prevented from planting, both an initial crop and a subsequent crop on the same acreage for the 2024 crop year, the initial crop will be eligible for ECAP if it was an eligible commodity. If the subsequent crop that was planted or prevented from being planted was also an eligible commodity, it will also be eligible for ECAP if it was in an approved double cropping combination.

A subsequent eligible commodity will also be eligible for ECAP when it is planted or prevented from being planted after an initial crop that is not an eligible commodity or a fruit, vegetable, or wild rice, and the combination does not meet the existing definition of an approved double cropping situation (for example, an initial crop of mixed forage followed by a subsequent crop of corn). The acreage of the subsequent eligible commodity is eligible in these situations because the initial crop may be a reflection of early acreage reporting deadlines and reporting requirements of other FSA programs rather than the producer's planting intention for the 2024 crop year. FSA acreage reporting provisions require producers to report certain crops by certain deadlines, in each calendar year, and some FSA programs require a complete acreage report for program eligibility. For example, grasses and other perennial forages would have been reported to FSA in the fall of the 2023 calendar year and captured as an initial crop for the 2024 crop year; however, frequently perennial grass cover is planted to an annual crop (such as an eligible commodity) in the following spring. As a result of acreage reporting rules, the annual crop is reported as a subsequent crop even though this may have been the producer's initial intent for the 2024 crop year. Producers of eligible commodities reported in this manner had a reasonable expectation of planting and harvesting the crop in a single crop year, and they experienced increased input costs and falling commodity prices that are intended to be addressed by ECAP.

In cases where a producer reports both an initial eligible commodity and a subsequent eligible commodity on the same acreage and the combination does not meet the definition of an approved double cropping situation, only the initial commodity will be eligible for an ECAP payment. This rule applies even in cases where the initial eligible commodity failed or was prevented from being planted. Limiting eligibility to the initial planting of an eligible commodity in cases where the producer could not have reasonably expected to make use of both ECAP eligible commodities in a single crop year is consistent with other programs administered by FSA (for example, under the Individual Coverage option for ARC (see definition of “double cropping” in 7 CFR 1412.3)).

For ECAP, an exception to that rule applies when the Federal Crop Insurance Corporation (FCIC) Small Grain Crop Provisions allow for a reduced premium for small grain acreage that is intentionally destroyed prior to harvest, which is referred to as “short-rate.” In short-rate scenarios, producers graze the small grain acreage and then still have the opportunity to timely plant a spring commodity with a reasonable expectation to produce a normal yield, therefore making use of both commodities. Acreage that has been reported with both an insured initial small grain crop that was intentionally destroyed before harvest by grazing or other means and is timely reported to the producer's crop insurance agent in accordance with section 6 of the FCIC's Small Grains Crop Provisions, and is then followed with a subsequent eligible commodity that is not an approved double crop scenario, will be eligible for payment on both plantings of eligible commodities. In this scenario, both eligible commodities are planted within the recommended planting period and are expected to result in normal crop production. While this may not be considered an approved double cropping scenario in some counties under FSA's acreage reporting provisions, as both crop plantings could not be carried to final use in one crop year, the practice is standard for the distinct geographic production region and the producers suffered an economic loss on both crops.

Volunteer acreage, experimental acreage, and acreage with an intended use of green manure or left standing are not eligible for payment under ECAP because the producer did not plant the acreage, or intend to plant the acreage in cases of prevented planting, for the purposes specified in section 2102 of Title I of Division B of the American Relief Act, 2025.

In cases where the same acreage of a commodity was reported with two different intended uses, FSA will not issue duplicate payments for that acreage based on each intended use. If both intended uses were reported by the same producer, the producer will receive one payment based on the eligible acres of the commodity. If the two different intended uses were reported by two different producers, the producer with responsibility for input expenses for the acres will be eligible, and the producer who was not responsible for the input expenses must adjust the eligible acreage for that commodity on their application to remove those acres. If the producers shared responsibility for input expenses for the acreage, each producer must adjust their eligible acres on their applications to represent a share of those acres that is proportional to their share of the inputs. For example, if 100 acres of wheat were reported by one producer with an intended use of grain, and also by a second producer who leases that land for grazing and has a lease that requires the second producer to pay for one-third of the input costs, the producer reporting the intended use of grain must adjust their acres to 66.67 acres (two-thirds of 100 acres) and the producer reporting the intended use of grazing must adjust their acres to 33.33 acres (one-third of 100 acres).

The American Relief Act, 2025, provides that eligible acreage that was prevented from being planted must have been due to drought, flood, or other natural disaster, or other condition beyond the control of the producers on the farm, as determined by the Secretary, as provided in 7 CFR 718.103. For prevented planted acres to be eligible for ECAP, producers must have filed a notice of loss on CCC-576, Part B.

Producers must have reported planted and prevented planted acres to FSA on FSA-578, Report of Acreage, to be eligible for payment. Producers who have not previously reported their 2024 crop year acreage of eligible commodities, and filed a notice of loss for prevented planted crops, may report their acreage of eligible commodities on FSA-578 and submit CCC-576 for prevented planting even if the deadlines applicable to other FSA programs have passed. Because ECAP is based on a producer's 2024 crop year acreage and those eligible commodities have already been harvested or grazed, producers who submit late-filed acreage reports for ECAP eligibility will not be required to pay the cost of a farm inspection and measurement applicable to other FSA programs. If requested by FSA, a producer must also submit additional documentation supporting the late-filed acreage report such as seed receipts, chemical and fertilizer receipts, precision planting records, harvesting records, geospatial data or maps, and published weather data. Producers must submit any required additional documentation within 30 days of the request. Acreage and prevented planting reports that are late-filed for ECAP eligibility will not be used to determine eligibility for other FSA programs for which these reports are required and the deadline applicable to the other programs has passed.

Eligible Producers

The American Relief Act, 2025, requires a producer to be actively engaged in farming, as specified in 7 U.S.C. 1308-1, to be eligible for ECAP. FSA will administer this requirement according to the regulations in 7 CFR part 1400, subparts C and G, which apply to FSA administered CCC programs that require a producer to be actively engaged in farming.

In addition, a producer must be one of the following to be eligible:

• Citizen of the United States;

• Resident alien, which for purposes of ECAP means “lawful alien” as defined in 7 CFR 1400.3;

• Partnership organized under State law;

• Corporation, limited liability company, or other organizational structure organized under State law;

• Indian Tribe or Tribal organization, as defined in section 4(b) of the Indian Self-Determination and Education Assistance Act (25 U.S.C. 5304); or

• Foreign person or foreign entity who meets all requirements as described in 7 CFR part 1400.

As required by the American Relief Act, 2025, the provisions of 7 U.S.C. 1308-3 regarding eligibility of foreign persons apply to ECAP, and FSA will administer those requirements as provided in 7 CFR 1400.401. The regulations in 7 CFR part 1400, subpart E, are applicable to foreign persons and legal entities (foreign and domestic) containing members, stockholders, or partners who are not U.S. citizens or resident aliens that own more than 10 percent of the legal entity.

The American Relief Act, 2025, specifies that the provisions of 7 U.S.C. 1308 regarding eligibility of Federal agencies, and State and local governments apply to ECAP. Federal agencies are not eligible for ECAP. A State, political subdivision, or agency thereof, is not eligible for an ECAP payment unless both of the following apply:

• The land for which payments are received is owned by the State, political subdivision, or agency thereof; and

• The payments are used solely for the support of public schools.

The total of payments to the State, political subdivision, or agency thereof cannot exceed $500,000 annually, except for States with a population less than 1,500,000, as established by the most recent U.S. Census Bureau annual estimate of the State's resident population. This limitation is in addition to the limitation per person or legal entity described in the Payment Limitation section of this document. For States with a population less than 1,500,000, they are subject to the regular per person or entity limit discussed in the payment limitation section below.

Payment Rates and Calculation

As specified in section 2102 of Title I of Division B of the American Relief Act, 2025, an ECAP payment will be equal to the greater of:

(1) 26 percent of the product obtained by multiplying the economic loss for an eligible commodity, which is the difference between the expected cost of production per acre and the expected gross return per acre for that eligible commodity, by the eligible acres of that eligible commodity on the farm; or

(2) The product obtained by multiplying the following 3 numbers:

(a) 8 percent of the eligible commodity's PLC reference price (7 U.S.C. 9011(19)), by

(b) the PLC national average payment yield for the eligible commodity (7 U.S.C. 9011(15)), and

(c) the number of eligible acres of that eligible commodity on the farm.

For the purpose of ECAP payment calculation, FSA has calculated a payment rate for each eligible commodity that is equal to the greater of:

(1) 26 percent of the economic loss (that is, the difference between the expected cost of production per acre and the expected gross return per acre) for an eligible commodity (referred to as the “economic loss payment rate” in this document); or

(2) 8 percent of the eligible commodity's PLC reference price, multiplied by the eligible commodity's PLC national average payment yield (referred to as the “minimum payment rate” in this document).

The payment rates for each commodity are shown in Table 1. An explanation of how these rates were developed is included in the next section of this document.

Table 1—Payment Rate (Per Acre), by Commodity
Commodity | Payment rate
Barley | $21.67
Canola | 31.83
Large Chickpeas | 24.02
Small Chickpeas | 31.45
Corn | 42.91
Cotton | 84.74
Crambe | 19.08
Flax | 20.97
Lentils | 19.30
Mustard | 11.36
Oats | 77.66
Peanuts | 75.51
Peas | 16.02
Rapeseed | 23.63
Rice | 76.94
Safflower | 26.32
Sesame | 16.83
Sorghum | 42.52
Soybeans | 29.76
Sunflowers | 27.23
Wheat | 30.69

To calculate a producer's ECAP payment, FSA will multiply the payment rate for an eligible commodity by the producer's eligible acres of that eligible commodity. FSA will issue eligible ECAP payments as applications are approved. ECAP payments will be prorated by 85 percent to ensure that payments do not exceed the available funding. FSA may issue an additional payment if additional funding remains available after initial prorated ECAP payments are issued to eligible producers based upon the terms of this NOFA and applications received by the closing date.

Payment Rate Development

The American Relief Act, 2025, specifies how to calculate the expected gross return per acre and expected cost of production per acre that were used to determine the payment rates for wheat, corn, sorghum, barley, oats, cotton, rice, and soybeans. For these commodities, the expected cost of production per acre is equal to the total costs listed for the 2024 crop year with respect to the applicable eligible commodity contained in the most recent data product titled “national average cost-of-production forecasts for major U.S. field crops” published by USDA's Economic Research Service (ERS).⁴ The expected gross return per acre for those commodities is equal to the projected average farm price for the applicable eligible commodity for the 2024 through 2025 marketing year from the World Agricultural Supply and Demand Estimates (WASDE) published on December 10, 2024,⁵ multiplied by the national average harvested yield per acre for the applicable eligible commodity for the most recent 10 crop years.⁶ The net gross return is the gross return minus the expected cost-of-production.

⁴ The ERS document is “Cost-of-production forecasts for major U.S. field crops, 2024F-2025F” updated on November 14, 2024, available at https://www.ers.usda.gov/data-products/commodity-costs-and-returns.

⁵ Projected average farm prices for eligible and available commodities for the 2024 through 2025 marketing year were taken from the World Agriculture Supply and Demand Estimates published on December 10, 2024, available at https://downloads.usda.library.cornell.edu/usda-esmis/files/3t945q76s/rb690665c/bn99c223f/wasde1224v2.pdf.

⁶ Ten-year average harvested yields were calculated using 2015 through 2024 yield estimates from USDA's National Agricultural Statistics Service.

An example of the resulting payment calculation used to determine the payment rate is shown below, in detail, using corn. The detailed values (a through e) used in the calculation are shown in Table 2.

Table 2—Corn Example Payment Rate Calculations; Variables for Economic Assistance Payment Calculations and Final Payment Rate (Per Acre)
Crop | 10 Year average harvested yield | Unit | Price forecast | Forecasted cost of production | Net gross return | 26 Percent of gross loss | Reference price | National average PLC yield | Minimum payment | Payment rate (greater of gross return vs minimum payment)
| (a) |  | (b) | (c) | (a * b)−c | ((a * b)−c) * 0.26 | (d) | (e) | (d * e) * 0.08 |
Corn | 174.16 | BU | 4.10 | 879.10 | −165.04 | 42.91 | 3.70 | 140.76 | 41.66 | 42.91
See Table 3 for sources.

To start, we estimated the net gross return for corn:

Net Gross Return for Corn = (a * b) = (174.16 * $4.10) = $714.06

(a * b)−c = $714.06−$879.10 = −$165.04/acre

The next step is to calculate the economic loss payment rate for corn:

Economic Loss Payment Rate for Corn (greater than 0 given economic loss) = |(a * b)−c| * 26% = $165.04 * 0.26 = $42.91/acre

Next, as required for the comparison, we calculated the minimum payment rate:

Minimum Payment Rate = (d * 8%) * e = ($3.70 * 8%) * 140.76 = $41.66 per acre

Given that the economic loss payment rate is greater than the minimum payment rate, the payment rate for corn is equal to $42.91 per acre. The payment per acre is applied to all eligible acres.

For commodities for which the Secretary determines there is insufficient data from the USDA sources noted above, the American Relief Act, 2025, provides that the Secretary will determine a comparable estimate of gross returns and a comparable total estimated cost of production. Eligible commodities that do not have a price projection available in WASDE, nor a cost-of-production forecast in the “national average cost-of-production forecasts for major U.S. field crops,” include pulse crops (large chickpeas, small chickpeas, dry peas, lentils) and certain oilseeds (canola, crambe, flax, mustard, rapeseed, safflower, sesame, sunflower). Peanuts do not have a price forecast published in the WASDE. For commodities not available in the WASDE, price projections for the 2024-2025 marketing year were taken from the ARC/PLC 2024 Market Year Average Prices web posting as of January 2025. This is the only data set published by USDA that provides crop year price forecasts for those crops that are not included in the WASDE, and these prices are determined using similar methods as WASDE forecasts.

Regarding cost of production data for pulses and certain oilseeds, USDA researched and evaluated agricultural extension budgets and other sources. These budgets were not used as they are based on differing computational methodologies, can be outdated, and can vary considerably across states even with seemingly similar production environments. Instead, national average costs of production for pulses and certain oilseeds were estimated based on a statistical equation involving crops with complete data. After the equation was estimated, analysts applied the resulting coefficients to the 10-year NASS average harvested yield and the ARC/PLC 2024 market year average price of each commodity with incomplete data. These sources provide the best data available reflecting market conditions for crops with incomplete data and were used in the estimated equation to provide production cost estimates for these crops. These resulting production costs are reflected in Table 3, column c, and the calculation of the payment rate follows the same methodology as shown above for corn. For a detailed explanation of the payment rates for these crops, see the Economic document that is posted as a supporting document in Docket ID FSA-2025-0002 on http://www.regulations.gov.

The values used for each commodity's payment rate calculation are shown in Table 3. This table includes the data for all eligible commodities.

Table 3—Variables for Economic Assistance Payment Calculations and Final Payment Rate (Per Acre), by Commodity
Crop | 10 Year average harvested yield | Unit | Price forecast | Forecasted cost of production | Net gross return | 26 Percent of gross loss | Reference price | National average PLC yield | Minimum payment | Payment rate (greater of gross return vs minimum payment)
| (a) |  | (b) | (c) | (a * b)−c | ((a * b)−c) * 0.26 | (d) | (e) | (d * e) * 0.08 |
Barley | 73.35 | BU | $6.60 | $472.01 | $12.10 | N/A | $4.95 | 54.73 | $21.67 | $21.67
Canola | 17.26 | CWT | 20.30 | 472.80 | −122.42 | 31.83 | 20.15 | 16.56 | 26.69 | 31.83
Large Chickpeas | 12.95 | CWT | 33.00 | 482.64 | −55.29 | 14.38 | 21.54 | 13.94 | 24.02 | 24.02
Small Chickpeas | 13.64 | CWT | 26.00 | 475.61 | −120.97 | 31.45 | 19.04 | 14.24 | 21.69 | 31.45
Corn | 174.16 | BU | 4.10 | 879.10 | −165.04 | 42.91 | 3.70 | 140.76 | 41.66 | 42.91
Cotton | 861.60 | LB | 0.66 | 894.56 | −325.90 | 84.74 | 0.37 | 1755.59 | 51.97 | 84.74
Crambe * | 13.90 | CWT | 19.10 | 310.78 | −45.29 | 11.78 | 20.15 | 11.84 | 19.08 | 19.08
Flax | 18.50 | BU | 12.50 | 311.90 | −80.65 | 20.97 | 11.28 | 19.29 | 17.41 | 20.97
Lentils | 10.73 | CWT | 34.50 | 396.01 | −25.83 | 6.71 | 19.97 | 12.08 | 19.30 | 19.30
Mustard | 6.84 | CWT | 47.90 | 346.73 | −19.09 | 4.96 | 20.15 | 7.05 | 11.36 | 11.36
Oats | 66.41 | BU | 3.40 | 524.48 | −298.69 | 77.66 | 2.40 | 51.94 | 9.97 | 77.66
Peanuts | 38.86 | CWT | 26.50 | 1184.95 | −155.16 | 40.34 | 26.75 | 35.28 | 75.51 | 75.51
Peas | 17.94 | CWT | 13.80 | 292.10 | −44.53 | 11.58 | 11.00 | 18.21 | 16.02 | 16.02
Rapeseed | 18.47 | CWT | 15.90 | 381.98 | −88.31 | 22.96 | 20.15 | 14.66 | 23.63 | 23.63
Rice | 75.49 | CWT | 15.60 | 1314.84 | −137.20 | 35.67 | 15.28 | 62.92 | 76.94 | 76.94
Safflower | 12.39 | CWT | 29.90 | 471.71 | −101.25 | 26.32 | 20.15 | 10.85 | 17.49 | 26.32
Sesame * | 4.89 | CWT | 39.00 | 255.45 | −64.74 | 16.83 | 20.15 | 3.17 | 5.12 | 16.83
Sorghum | 66.73 | BU | 4.10 | 437.14 | −163.55 | 42.52 | 3.95 | 61.90 | 19.56 | 42.52
Soybeans | 50.08 | BU | 10.20 | 625.29 | −114.47 | 29.76 | 8.40 | 40.44 | 27.18 | 29.76
Sunflowers | 16.79 | CWT | 19.85 | 438.00 | −104.72 | 27.23 | 20.15 | 14.40 | 23.21 | 27.23
Wheat | 48.24 | BU | 5.60 | 388.19 | −118.05 | 30.69 | 5.50 | 41.48 | 18.25 | 30.69
Table 1 & 3 Sources:
(a) 2015/2016 to 2024/2025 harvested acres from USDA's National Agricultural Statistics Service (NASS) (pulled from QuickStats in January 2025) were used to calculate the 10-year average harvested yield. Sesame (*) harvested yield estimates are not available in the NASS database. Sesame's 10-year average harvested yield was calculated using: (1) harvested acres and production from the 2012, 2017, and 2022 Census of Agriculture; and (2) and the application of the year-to-year change from NASS canola yield estimates to estimate 2023 and 2024 changes to sesame. Crambe's (*) 10-year average harvested yield came from internal USDA estimates of historical crambe yields used for budgetary purposes.
(b) 2024-2025 marketing year price forecasts are from the WASDE published December 10, 2024, for barley, corn, cotton, oats, peanuts, rice, soybeans, and wheat. The remaining commodities' price forecasts are from the 2024-2025 ARC/PLC Marketing Year Average Prices.
(c) 2024 costs-of-production forecasts are from USDA's Economic Research Service's “Cost-of-production forecasts for major U.S. fields crops, 2024F-2025F” updated on November 14, 2024 (including wheat, corn, sorghum, barley, oats, cotton, peanuts, rice, and soybeans). For commodities that are not available in this publication, a statistical approach was implemented as described above.
(d) ARC/PLC Effective Reference Price for Program Year 2024. Note the reference price for rice is weighted to reflect the price of all three classes (japonica, long grain, and medium and short grain).
(e) National weighted averaged PLC yields were calculating using PLC yields by county.

Payment Limitation

As provided by the American Relief Act, 2025, the total amount of ECAP payments received, directly or indirectly, by a person or legal entity (except a joint venture or general partnership) may not exceed:

• $125,000, if less than 75 percent of the average gross income of the person or legal entity for the 2020, 2021, and 2022 tax years is derived from farming, ranching, or silviculture activities; and

• $250,000, if not less than 75 percent of the average gross income of the person or legal entity for the 2020, 2021, and 2022 tax years is derived from farming, ranching, or silviculture activities.

As specified in the American Relief Act, 2025, these payment limitations are separate from the payment limitations that apply to other programs.

The American Relief Act, 2025, uses the term “average gross income” for payment limitations. This term has a different meaning than “average adjusted gross income,” which is what FSA and CCC programs typically use for purposes of administering payment limits. In order to implement the use of “average gross income” as required by the American Relief Act, 2025, ECAP will use the definition of “gross income” provided in the Internal Revenue Code in 26 U.S.C. 61. FSA is using this definition because FSA has not defined the term for any previous programs. In addition, using the Internal Revenue Code's definition is consistent with Congress's prior use of this term, and it will reduce confusion for producers and their licensed enrolled agents, certified public accountants, and attorneys when completing certifications of adjusted gross farm income. The term “gross income” is not used by IRS on tax forms; therefore, to ensure consistency and provide a logical approach for producers, average gross income will be calculated based on the applicable 3-year average (2020, 2021, and 2022) of the reported “total income” on IRS forms 1040, 1041, 1065, and 1120, or similar reported income.

The portion of a person or legal entity's average gross income derived from farming, ranching, or silviculture activities will be referred to as their “average gross farm income,” as defined in this document. As with the use of “average gross income” described above, “average gross farm income” has a different meaning than “average adjusted gross farm income” used in other FSA and CCC programs. Average gross farm income includes income derived from farming, ranching, and silviculture operations, which has the same meaning for ECAP as in other recent FSA and CCC programs that use the term “income derived from farming, ranching, and forestry operations.”

Similar to the calculation of “average adjusted gross income” in other FSA and CCC programs, if the average gross farm income derived from the items listed in the definition of “income derived from farming, ranching, and silviculture operations” is at least 66.66 percent of the average gross income of the person or legal entity, then the average gross farm income may also take into consideration income or benefits derived from the sale, trade, or other disposition of equipment to conduct farm, ranch, or forestry operations; and the provision of production inputs and production services to farmers, ranchers, foresters, and farm operations. Inclusion of those income and benefits in this manner was first introduced for the purpose of determining a producer's “average adjusted gross farm income” by section 1604 of the Food Conservation and Energy Act of 2008 (Pub. L. 110-234), amending section 1001D of the Farm Security and Rural Investment Act of 2002 (Pub. L. 107-171). This rule has continued to be used in other recent FSA and CCC programs that use determinations of a producer's average adjusted gross farm income for payment eligibility or payment limitation purposes.

As provided by the American Relief Act, 2025, the payment attribution provisions of 7 U.S.C. 1308(e) apply to ECAP. A payment made to a legal entity will be attributed to those members who have a direct or indirect ownership interest in the legal entity, unless the payment of the legal entity has been reduced by the proportionate ownership interest of the member due to that member's ineligibility.

Attribution of payments made to legal entities will be tracked through four levels of ownership in legal entities ⁷ as follows:

⁷ Attribution of payments through four levels of ownership in legal entities is consistent with the approach used in other FSA programs specified in 7 CFR 1400.1.

• First level of ownership—any payment made to a legal entity that is owned in whole or in part by a person will be attributed to the person in an amount that represents the direct ownership interest in the first level or payment legal entity ⁸;

⁸ There will be a reduction applied for the “first level or payment legal entity,” and if the payment entity happens to be a joint venture, that reduction is applied to the first level, or highest level, for payments. The “first level or payment legal entity” is the highest level of ownership of the applicant to whom payments can be attributed or limited. If the applicant is a business type that does not have a limitation or attribution, the reduction is applied to the first level, but if the business type can have the reduction applied directly to it, then the limitation applies.

• Second level of ownership—any payment made to a first-level legal entity that is owned in whole or in part by another legal entity (referred to as a second-level legal entity) will be attributed to the second-level legal entity in proportion to the ownership of the second-level legal entity in the first-level legal entity; if the second-level legal entity is owned in whole or in part by a person, the amount of the payment made to the first-level legal entity will be attributed to the person in the amount that represents the indirect ownership in the first-level legal entity by the person;

• Third and fourth levels of ownership—except as provided in the second level of ownership bullet above and in the fourth level of ownership bullet below, any payments made to a legal entity at the third and fourth levels of ownership will be attributed in the same manner as specified in the second level of ownership bullet above; and

• Fourth level of ownership—if the fourth level of ownership is that of a legal entity and not that of a person, a reduction in payment will be applied to the first-level or payment legal entity in the amount that represents the indirect ownership in the first level or payment legal entity by the fourth-level legal entity.

Payments made directly or indirectly to a person who is a minor child will be combined with the earnings of the minor's parent or legal guardian.

A person or legal entity must provide the name, address, valid taxpayer identification number, and ownership share of each person, or the name, address, valid taxpayer identification number, and ownership share of each legal entity, that holds or acquires an ownership interest in the legal entity. ECAP payments to a legal entity will be reduced in proportion to a member's ownership share when a valid taxpayer identification number for a person or legal entity that holds a direct or indirect ownership interest of less than 10 percent at or above the fourth level of ownership in the business structure is not provided to USDA. A legal entity will not be eligible to receive payment when a valid taxpayer identification number for a person or legal entity that holds a direct or indirect ownership interest of 10 percent or greater at or above the fourth level of ownership in the business structure is not provided to USDA.

If a person or legal entity is not eligible to receive ECAP payments due to the person or legal entity failing to satisfy payment eligibility provisions, the payment made either directly or indirectly to the person or legal entity will be reduced to zero. The amount of the reduction for the direct payment to the producer will be commensurate with the direct or indirect ownership interest of the ineligible person or ineligible legal entity.

Indian Tribes and Tribal organizations, as defined in section 4(b) of the Indian Self-Determination and Education Assistance Act (25 U.S.C. 5304), are not included in the definition of “legal entity” specified in 7 U.S.C. 1308; therefore, they will not be subject to payment limitation.

How To Apply

FSA will generate pre-filled ECAP applications for producers based on their acreage of eligible commodities on FSA-578. Beginning in late-March 2025, FSA will mail those pre-filled applications to producers who had reported their 2024 crop year acreage of eligible commodities by March 10, 2025. Producers with a level 2 eAuthentication account or a login.gov account may complete their application electronically by visiting https://www.fsa.usda.gov/ecap.

Applicants must submit the FSA-63 ECAP, Emergency Commodity Assistance Program (ECAP) Application, electronically or to their local FSA county office ⁹ by August 15, 2025. Applicants will submit one application that includes all eligible acreage in all counties nationwide.

⁹ To locate the nearest FSA county office, visit the USDA Service Center locator at https://www.farmers.gov/working-with-us/service-center-locator.

To apply for ECAP, an applicant must have also reported their planted and prevented planted acreage of eligible commodities to FSA on FSA-578 and filed a notice of loss for acres that were prevented from being planted on CCC-576, if applicable. FSA will not accept applications on which producers have manually entered acreage data except in situations where adjustment of eligible acres is required as explained in the Eligible Acreage section of this document.

Producers who had not reported planted and prevented planted acreage on FSA-578 and filed a notice of loss for prevented planted acreage using CCC-576 by March 10, 2025, must submit those forms as described in the Eligible Acreage section of this document by August 15, 2025. Once submitted, FSA will generate a pre-filled ECAP application for the producer to complete and sign.

Applicants must also submit the following eligibility forms to FSA by August 17, 2026, if not already on file with FSA for the 2024 program year:

• AD-2047, Customer Data Worksheet, for new applicants and applicants who need to update their information;

• CCC-901, Member Information for Legal Entities, if applicable;

• CCC-902E, Farm Operating Plan for an Entity; if applicable;

• CCC-902I, Farm Operating Plan for an Individual, if applicable;

• CCC-943, 75% of Average Gross Income from Farming, Ranching, or Forestry Certification, for producers and members of legal entities who are requesting an increase to the payment limitation;

• AD-1026 Highly Erodible Land Conservation (HELC) and Wetland Conservation (WC) Certification, for the producer and affiliated persons, as specified in 7 CFR 12.8; and

• SF-3881, ACH Vendor/Miscellaneous Payment Enrollment Form.¹⁰

¹⁰ Applicants who are unable to receive payment through direct deposit are still eligible to participate in ECAP. Those applicants should contact their local FSA county office for further information.

Other Provisions

General requirements that apply to other FSA-administered commodity programs also apply to ECAP. Producers that receive ECAP payments must be in compliance with the provisions of 7 CFR part 12, “Highly Erodible Land and Wetland Conservation,” for the 2024 crop year, and the provisions of 7 CFR 718.6, which address ineligibility for benefits for offenses involving controlled substances, for the 2024 program year.

All information provided to FSA for program eligibility and payment calculation purposes is subject to spot check. Participants are required to retain documentation in support of their application for 3 years after the date of approval. Participants receiving ECAP payments or any other person who furnishes such information to USDA must permit authorized representatives of USDA or the Government Accountability Office, during regular business hours, to enter the operation and to inspect, examine, and allow representatives to make copies of books, records, or other items for the purpose of confirming the accuracy of the information provided by the participant.

If an ECAP payment resulted from erroneous information provided by a participant, or any person acting on their behalf, the payment will be recalculated and the participant must refund any excess payment to FSA with interest calculated from the date of the disbursement of the payment. If FSA determines that the applicant intentionally misrepresented information provided on their application, the application will be disapproved and the applicant must refund the full payment to FSA with interest from the date of disbursement.

Applicants have a right to a decision in response to their application. If an applicant submits an application or required documentation to an FSA county office after the deadline, the submission will be considered a request to waive the deadline. Requests to waive or modify program provisions, including requests to waive the deadline, are at the discretion of the Deputy Administrator. The Deputy Administrator has the authority to waive or modify application deadlines and other requirements or program provisions not specified in law, in cases where the Deputy Administrator determines: (1) it is equitable to do so; and (2) the lateness or failure to meet such other requirements or program provisions do not adversely affect the operation of ECAP. Applicants who request to waive or modify ECAP provisions do not have a right to a decision on those requests. The Deputy Administrator's refusal to exercise discretion on requests to waive or modify ECAP provisions will not be considered an adverse decision and is, by itself, not appealable.

Equitable relief and finality provisions specified in 7 CFR part 718, subpart D, apply to determinations under ECAP. Persons and legal entities who file an application with FSA have the right to an administrative review of any FSA adverse decision with respect to the application under the appeals procedures at 7 CFR parts 780 and 11. The determination of matters of general applicability that are not in response to, or do not result from, an individual set of facts in an individual participant's application are not matters that can be appealed. Such matters of general applicability include, but are not limited to, eligible crops, eligible acreage, payment factors, payment limitations, and the payment calculation.

Any payment under ECAP will be made without regard to questions of title under State law and without regard to any claim or lien. The regulations governing offsets in 7 CFR part 3 apply to ECAP payments.

As required by the American Relief Act, 2025, the provisions regarding denial or program benefits in 7 U.S.C. 1308-2 apply to ECAP. FSA will administer these requirements according to the regulations at 7 CFR 1400.5.

In either applying for or participating in ECAP, or both, the applicant is subject to laws against perjury (including, but not limited to. 18 U.S.C. 1621). If the applicant willfully makes and represents as true any verbal or written declaration, certification, statement, or verification that the applicant knows or believes not to be true, in the course of either applying for or participating in ECAP, or both, then the applicant may be found to be guilty of perjury. Except as otherwise provided by law, if guilty of perjury the applicant may be fined, imprisoned for not more than 5 years, or both, regardless of whether the applicant makes such verbal or written declaration, certification, statement, or verification within or outside the United States.

For the purposes of the effect of a lien on eligibility for Federal programs (28 U.S.C. 3201(e)), USDA waives the restriction on receipt of funds under ECAP but only as to beneficiaries who, as a condition of the waiver, agree to apply the ECAP payments to reduce the amount of the judgment lien.

In addition to any other Federal laws that apply to ECAP, the following laws apply: 18 U.S.C. 286, 287, 371, and 1001.

Paperwork Reduction Act Requirements

In compliance with the provisions of the Paperwork Reduction Act (44 U.S.C. chapter 35), the information collection request has been approved by OMB under the control number of 0503-0028. FSA is providing ECAP payments to eligible producers of eligible commodities for the 2024 crop year. The ECAP payments will help producers of eligible commodities cope with losses from natural disasters and a difficult farm economy, and will help preserve family farms and ranches across the country while also continuing to ensure food and agricultural security for our nation.

Environmental Review

The environmental impacts of this notice have been considered in a manner consistent with the provisions of the National Environmental Policy Act (NEPA, 42 U.S.C. 4321-4347), and the FSA regulations for compliance with NEPA (7 CFR part 799).

The purpose of ECAP is to provide assistance to eligible producers who suffered economic losses related to production of eligible commodities for the 2024 crop year. The Categorical Exclusions in 7 CFR 799.31 apply, specifically 7 CFR 799.31(b)(6)(vi) (that is, safety net programs administered by FSA). No Extraordinary Circumstances (7 CFR 799.33) exist. FSA has determined that this notice does not constitute a major Federal action that would significantly affect the quality of the human environment, individually or cumulatively. Therefore, FSA will not prepare an environmental assessment or environmental impact statement for this regulatory action.

Federal Assistance Programs

The title and number of the Federal assistance programs, as found in the Assistance Listing,¹¹ to which this document applies is 10.121, Emergency Commodity Assistance Program (ECAP).

¹¹ See https://sam.gov/content/assistance-listings.

USDA Non-Discrimination Policy

In accordance with Federal civil rights law and U.S. Department of Agriculture (USDA) civil rights regulations and policies, USDA, its Agencies, offices, and employees, and institutions participating in or administering USDA programs are prohibited from discriminating based on race, color, national origin, religion, sex, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and text telephone (TTY mode)) or dial 711 for Telecommunications Relay Service (both voice and text telephone users can initiate this call from any telephone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) fax: (202) 690-7442; or (3) email: program.intake@usda.gov.

USDA is an equal opportunity provider, employer, and lender.

Kimberly Graham,
Acting Administrator, Farm Service Agency.

[FR Doc. 2025-04604 Filed 3-18-25; 8:45 am]

BILLING CODE 3410-E2-P